DEPARTMENT OF LABOR

Employment and Training Administration

MGM Transport, et al.; Amended Notice of Revised Determination on Reconsideration

TA-W-80,420

MGM Transport, 2550 Hickory Blvd., A Subsidiary Of Cf Holding Co. Inc., Lenoir, NC

TA-W-80,420H

MGM Transport, 501 North County Road, a Subsidiary of CF Holding Co. Inc., Secaucus, NJ

In accordance with Section 223 of the Trade Act of 1074, as amended (“Act”), (19 U.S.C. 2273), the Department of Labor issued a Revised Determination on Reconsideration on December 15, 2011, applicable to workers of MGM Transport, 2550 Hickory Road, a subsidiary of CF Holding Co., Inc., Lenoir, North Carolina (TA-W-80,420), MGM Transport, 900 VC Drive, a subsidiary of CF Holding Co., Inc., Martinsville, Virginia (TA-W-80,420A), MGM Transport, 1264 Jackson Lake Road, a subsidiary of CF Holding Co., Inc., High Point, North Carolina (TA-W-80,420B), Caldwell Freight Lines, Inc., 1264 Jackson Lake Road, a subsidiary of CF Holding Co., Inc., High Point, North Carolina (TA-W-80,420C), Caldwell Freight Lines, Inc., 900 VC Drive, a subsidiary of CF Holding Co., Inc., Martinsville, Virginia (TA-W-80,420D), Caldwell Freight Lines, Inc., 385 Stafford Blvd., a subsidiary of CF Holding Co., Inc., Pontotoc, Mississippi (TA-W-80,420E), Caldwell Freight Lines, Inc., 2550 Hickory Blvd., a subsidiary of CF Holding Co., Inc., Lenoir, North Carolina (TA-W-80,420F), and Caldwell Freight Lines, Inc., 1459 Robinwood Road, a subsidiary of CF Holding Co., Inc., Newton, North Carolina (TA-W-80,420G). The worker group, except for TA-W-80,420, TA-W-80,420B and TA-W-80,420E, also consists of on-site leased workers from Prime Choice Services. The workers' firm is engaged in activities related to the supply of transportation services. The revised notice was published in the Federal Register on December 29, 2011 (76 FR 81991).

New information provided by the company revealed that workers of the Secaucus, New Jersey location of MGM Transport, a subsidiary of CF Holding Co., Inc. supplied transportation services to a certified Trade Adjustment Assistance firm. The loss of business by the subject firm with the TAA-certified firm contributed importantly to worker separations at the Secaucus, New Jersey location.

Accordingly, the Department is amending this revised determination to include workers of the Secaucus, New Jersey location of MGM Transport, a subsidiary of CF Holding Co., Inc.

The intent of the Department's revised determination is to include all workers of the subject firm who were adversely affected as secondary certified workers.

The amended notice applicable to TA-W-80,420 is hereby issued as follows:

All workers of MGM Transport, 2550 Hickory Road, a subsidiary of CF Holding Co., Inc., Lenoir, North Carolina (TA-W-80,420), MGM Transport, 900 VC Drive, a subsidiary of CF Holding Co., Inc., Martinsville, Virginia, including on-site leased workers from Prime Choice Services (TA-W-80,420A), MGM Transport, 1264 Jackson Lake Road, a subsidiary of CF Holding Co., Inc., High Point, North Carolina (TA-W-80,420B), Caldwell Freight Lines, Inc., 1264 Jackson Lake Road, a subsidiary of CF Holding Co., Inc., High Point, North Carolina, including on-site leased workers from Prime Choice Services (TA-W-80,420C), Caldwell Freight Lines, Inc., 900 VC Drive, a subsidiary of CF Holding Co., Inc., Martinsville, Virginia, including on-site leased workers from Prime Choice Services (TA-W-80,420D), Caldwell Freight Lines, Inc., 385 Stafford Blvd., a subsidiary of CF Holding Co., Inc., Pontotoc, Mississippi (TA-W-80,420E), Caldwell Freight Lines, Inc., 2550 Hickory Blvd., a subsidiary of CF Holding Co., Inc., Lenoir, North Carolina, including on-site leased workers from Prime Choice Services (TA-W-80,420F), Caldwell Freight Lines, Inc., 1459 Robinwood Road, a subsidiary of CF Holding Co., Inc., Newton, North Carolina, including on-site leased workers from Prime Choice Services (TA-W-80,420G), and MGM Transport, 501 North County Road, a subsidiary of CF Holding Co., Inc., Secaucus, New Jersey (TA-W-80,420H), who became totally or partially separated from employment on or after September 7, 2010, through December 15, 2013, and all workers in the group threatened with total or partial separation from employment on December 20, 2011 through two years from the date of certification, are eligible to apply for adjustment assistance under Chapter 2 of Title II of the Trade Act of 1974, as amended.

Signed in Washington, DC, this 21st day of February 2012.
Del Min Amy Chen,
Certifying Officer, Office of Trade Adjustment Assistance.

[FR Doc. 2012-5396 Filed 3-5-12; 8:45 am]

BILLING CODE 4510-FN-P